DEPARTMENT OF THE TREASURY

Internal Revenue Service

26 CFR Part 301

[TD 9520]

RIN 1545-BG13

Withdrawal of Regulations Related to Validity and Priority of Federal Tax Lien

Correction

In rule document 2011-7933 appearing on pages 18384-18388 in the issue of Monday, April 4, 2011, make the following correction:

§ 301.6323(b)-1 [Corrected]

On page 18385, in the third column, in § 301.6323(b)-1(g)(1), on the fifth line, “lien or” should read “lienor”.

[FR Doc. C1-2011-7933 Filed 5-2-11; 8:45 am]

BILLING CODE 1505-01-D